DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 15 through June 26, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) a significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the

TA-W-70,001; Syracuse China Company, Syracuse, NY: May 18, 2008.

TA-W-70,067; Alcoa, Inc., Tennessee Operations, TN, May 18, 2008.

TA-W-70,449; Sumco Phoenix Corporation, Sumco Southwest Corporation Division, Sumco Corporation, AZ, May 20, 2008.

TA-W-70,788; Alabama River Newsprint Company, A Subsidiary of Abitibibowater, Inc., AL, May 26, 2008.

TA-W-70,011; C&W Industries, Inc., MA, May 18, 2008.

TA-W-70,598; Mount Vernon Mills, Brentex Division, Columbus Plant, MS, May 22, 2008.

TA-W-70,090; Tama Manufacturing Company Inc., PA, May 18, 2008.

The following certifications have been issued. The requirements of Section 222(a)(2)(B) (shift in production or services) of the Trade Act have been met.

TA-W-70,960; GE Consumer and Industrial Lighting, Willoughby Lucalox Plant, OH, May 21, 2008.

TA-W-70,016; Multi-Plex, A Division of Magna Powertrain, IN, May 18, 2008.

TA-W-70,017; Century Aluminum of West Virginia, Inc., Reduction Aluminum Smelter Division, Ravenswood, WV, May 18, 2008.

TA-W-70,023; Triumph Apparel Corporation, York Manufacturing, Leased Workers of Advanced Personnel and Adecco, York, PA, May 18, 2008.

TA-W-70,026; Hewlett Packard, Leased Workers of Adecco Technical Personal Laser Solution Division, Boise, ID, May 18, 2008.

TA-W-70,035; Schaeffler Group USA, Inc., Cheraw, SC, May 18, 2008.

TA-W-70,039; Umicore Autocat USA, Inc., Catoosa, OK, May 8, 2009.

TA-W-70,040; Eaton Corporation—Truck Components, Truck Group, Light/Medium Transmission Division, Leased Workers From Adecco, Greenfield, IN, May 18, 2008.

TA-W-70,041; Ami Entertainment Network, Grand Rapids, MI, May 18, 2008.

TA-W-70,051A; Aavid Thermalloy, LLC, Concord, NH, May 18, 2008.

TA-W-70,051; Aavid Thermalloy, LLC, Laconia, NH, May 17, 2009.

TA-W-70,059; Temic Automotive of North America, Sensor Element Mfg., Division, Leased Workers from Manpower & Linc, Northbrook, IL, May 18, 2008.

TA-W-70,065; Silver King Refrigeration, Inc., A Division of Prince Castle, Leased Workers of Aerotek, First Choice etc., Plymouth, MN, May 18, 2008.

TA-W-70,068; CoAdna Photonics, Inc., Workers Off-Site in Stow, Ohio, and Leased Workers of OE Lab, Sunnyvale, CA, May 18, 2008.

TA-W-70,074; Eagle Compressor, Hickman, KY, May 18, 2008.

TA-W-70,087; Entegris, Inc., Microenvironment Business Unit, Chaska, MN, May 18, 2008.

TA-W-70,088; Kelsey-Hayes Company, Subsidiary of TRW Automotive, Ettrick, WI, May 18, 2008.

TA-W-70,095; Biotage, LLC, On-Site Leased Workers from Aerotek, Charlottesville, VA, May 18, 2008.

TA-W-70,112; Sumitomo Electric Wiring Systems, Inc., A Subsidiary of Sumitomo Wiring Systems, Leased Workers From Holland Employment, Scottsville, KY, May 18, 2008.

TA-W-70,123; Electrolux Home Products, INC., Electrolux Major Appliances Division, Webster City, IA, May 18, 2008.

TA-W-70,126; Pass and Seymour Legrand, A Division of Legrand North America, Whitsett, NC, May 18, 2008.

TA-W-70,135; Advanced Micro Devices, Inc., Assembly Process Division, Sunnyvale, CA, May 18, 2008.

TA-W-70,184; Dana Commercial Vehicles Products, LLC, A Subsidiary of Dana Limited, Dana Holding Corporation, Humboldt, TN, May 18, 2008.

TA-W-70,191; B. Braum Medical, Inc., Cherry Hill, NJ, May 18, 2008.

TA-W-70,194; Maida Development Company, Leased Workers From Integrity Staffing Services, Hampton, VA, May 18, 2008.

TA-W-70,257; Eaton Corporation, Fluid Power Group, Hydraulics Division, Mentor, OH, May 18, 2008.

TA-W-70,266; Musashi South Carolina, Inc., Leased Workers From Multi-Systems Electrical, Bennettsville, SC, May 18, 2008.

TA-W-70,341; DENSO Manufacturing Athens, Tennessee, A Subsidiary of Denso International America and Denso Corp., Athens, TN, May 19, 2008.

TA-W-70,384; National Mills, Inc., Leased Workers from Manpower Temp Services, Pittsburg, KS, May 19, 2008.

TA-W-70,393; Rawlings Sporting Goods Washington Distribution Center, Sample Sewing Department, Washington, MO, May 20, 2008.

TA-W-70,426; Timminco Corporation, On-Site Leased Workers From Prime Source Staffing and Ready Temporary Services, Aurora, CO, May 20, 2008.

TA-W-70,451; CME, LLC, Leased Workers of Kelly Service, Mt. Pleasant, MI, May 20, 2008.

TA-W-70,465; Ferraz Shawmut, LLC, Newburyport, MA, May 19, 2008.

TA-W-70,478; Numonyx, California Technology Center, Santa Clara, CA, May 21, 2008.

TA-W-70,500; Methode Electronics, Inc., AECD Division, Leased Workers of Adecco and Taske Force, Carthage, IL, May 21, 2008.

TA-W-70,558; Weiler Corporation, Cresco, PA, May 22, 2008.

TA-W-70,574; Kennametal Inc., Corporate Headquarters, Latrobe, PA, May 21, 2008.

TA-W-70,582; Ceco Building Systems, A Subsidiary of NCI Building Systems, Leased Workers from Team Staffing Solution, Mt. Pleasant, IA, May 22, 2008.

TA-W-70,587; Bourns, Inc, Automotive Division, Leased Workers from Manpower and Spherion, Janesville, WI, May 22, 2008.

TA-W-70,714; Johnson Controls Interior Manufacturing, LLC (McAllen-USA), Automotive Experience, McAllen, TX, May 27, 2008.

TA-W-70,873; Group Dekko, Inc., Murray Plant, Leased Workers of Grapevine Staffing and Advance Services, Murray, IA, May 20, 2008.

TA-W-70,887; Berryville Graphics, Arvato Division, Leased Workers From Axion Staffing, Berryville, VA, June 2, 2008.

TA-W-70,914; Gilmour Manufacturing Company, Division of Robert Bosch Tool, Rugierri Enterprises, etc, Somerset, PA, June 1, 2008.

TA-W-70,970, General Dynamics Itonix Corporation, C4 Systems, Spokane Valley, WA, May 18, 2008.

TA-W-71,076; ITT Corporation, FMC-Interconnect Solutions, First Choice Staffing, Santa Ana, CA, June 8, 2008.

TA-W-71,180; Bracalente Manufacturing Company, Trumbaursville, PA, June 1, 2008.

TA-W-71,181; Philips Electronics, Philips Oral Healthcare, Leased Workers from Adecco NA, Snoqualmie, WA, June 10, 2008.

TA-W-70,410; Avnet Grapevine Assembly Facility, Leased Workers From Kelly Services, Grapevine, TX, May 19, 2008.

TA-W-70,086; EBI Holding, LLC, Health Insurance Verification and Billing Department, dba Biomet Spine, Parsippany, NJ, May 18, 2008.

TA-W-70,321; Leggett and Platt, Inc., Leggett Wood Division Office, Wilkes-Barre, PA, May 18, 2008.

TA-W-70,496; Tektronix, Inc., Information Technology Division, Data Center Operations Group, Beaverton, OR, May 21, 2008.

TA-W-70,662; Berry Floor USA, Inc., Racine, WI, May 27, 2008.

TA-W-70,506; Ecolab, Inc., Accounts Receivable Department, Eagan, MN, May 18, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,029; Chick Machine Co., Inc., Butler, PA May 18, 2008.

TA-W-70,077; Carrick Turning Works, Inc., High Point, NC, May 18, 2008.

TA-W-70,209; AGC Flat Glass North America, Inc., Jerry Run Facility, Bridgeport, WV, May 18, 2008.

TA-W-70,411; Tarkio Corporation, dba Proco Manufacturing, Beaverton, OR, May 19, 2008.

TA-W-70,528; Allegheny Ludlum Corporation, A Division of Allegheny Technologies, Midland, PA, May 22, 2008.

TA-W-70,568; Mount Vernon Mills, Brentex Division, Williamston Plant, Williamston, SC, May 22, 2008.

TA-W-70,649; Mount Vernon Mills, Curo Plant, Brentex Division, Cuero Plant, Cuero, TX, May 22, 2008.

TA-W-70,902; Tech Molded Plastics, LP, Kelly Services, Career Concepts, Select Staffing, Meadville, PA, May 27, 2008.

TA-W-70,977; Top Notch, Inc., Fort Payne, AL, June 2, 2008.

The following certifications have been issued. The requirements of Section 222(c) (downstream producer for a firm whose workers are certified eligible to apply for TAA) of the Trade Act have been met.

TA-W-70,670; PIHT, LLC,: A Subsidiary of Bluewater Thermal Processing, Saint Marys, PA, May 20, 2008.

TA-W-70,742; Hanes Dye and Finishing Co., A Subsidiary of Leggett and Platt, Winston Salem, NC, May 27, 2008.

The following certifications have been issued. The requirements of Section 222(f) (firms identified by the International Trade Commission) of the Trade Act have been met.

TA-W-70,702; Wheatland Tube Company, Sharon, PA, March 13, 2009.

TA-W-71,199; Appleton Papers, Inc., Appleton, WI, November 20, 2007.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

None.

The investigation revealed that the criteria under paragraphs (a)(2)(A)(i) (decline in sales or production, or both) and (a)(2)(B) (shift in production or services to a foreign country) of section 222 have not been met.

None.

The investigation revealed that the criteria under paragraphs (a)(2)(A) (increased imports) and (a)(2)(B) (shift in production or services to a foreign country) of section 222 have not been met.

None.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of June 15 through June 26, 2009. Copies of these determinations are available for inspection in Room N-5428, U.S. Department of Labor, 200 Constitution Avenue, NW., Washington, DC 20210 during normal business hours or will be mailed to persons who write to the above address.

Dated: August 3, 2009.
Linda G. Poole,
Certifying Officer, Division of Trade Adjustment Assistance.

[FR Doc. E9-19832 Filed 8-18-09; 8:45 am]

BILLING CODE 4510-FN-P